DEPARTMENT OF THE INTERIOR

National Park Service

[NPS-WASO-NAGPRA-17082; PPWOCRADN0-PCU00RP14.R50000]

Notice of Inventory Completion: Carnegie Museum of Natural History, Pittsburgh, PA

AGENCY: National Park Service, Interior.

ACTION: Notice.

SUMMARY: The Carnegie Museum of Natural History has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Carnegie Museum of Natural History. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Carnegie Museum of Natural History at the address in this notice by December 31, 2014.

ADDRESSES: Deborah G. Harding, Carnegie Museum of Natural History, 5800 Baum Blvd., Pittsburgh, PA 15206, telephone (412) 665-2606.

SUPPLEMENTARY INFORMATION: Notice is here given in accordance with the Native American Graves Protection and Repatriation Act (NAGPRA), 25 U.S.C. 3003, of the completion of an inventory of human remains and associated funerary objects under the control of the Carnegie Museum of Natural History, Pittsburgh, PA. The human remains and associated funerary objects were removed with the Chambers Site, 36LR11, Lawrence County, PA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Carnegie Museum of Natural History professional staff in consultation with representatives of the Delaware Tribe of Indians.

History and Description of the Remains

Between 1957 and 1959, human remains representing, at minimum, 67 individuals were removed from the Chambers Site (36 LR 11), Union Township, Lawrence County, PA, by John A. Zakucia. In 1959, Zakucia donated 55 individuals and associated funerary objects to the Carnegie Museum of Natural History (CMNH). In 1959, CMNH conducted limited excavations at the Chambers site by then-Curator, Don W. Dragoo, and removed 12 additional individuals. No known individuals were identified. The 2,564 associated funerary objects include 2,255 glass seed; 8 tubular beads; 1 mass of seed beads in matrix (uncounted); 9 copper alloy tinklers; 140 wrought iron nails and fragments and attached wood (coffin fragments); 2 hawk bells; 2 thimbles; 1 copper alloy brooch or buckle; 1 braided wire bracelet; 1 silver band or bracelet; 1 copper alloy bracelet; 1 iron knife blade; 15 grit-tempered pottery fragments; 32 fragments of non-human bone (deer, sheep or goat, pig, and cow); 20 chipped stone tools; 52 chipped stone flakes and fragments; 3 ground stone pieces; 5 projectile points; 4 hammerstones; 2 hematite fragments; 5 pieces of charcoal; 1 piece of bark or fabric; 1 tiny fragment of organic material; 1 lump of matrix containing bone or metal fragments; and 1 natural stone.

The Euromerican assemblage of objects associated with the human remains dates the burials to the 18th century. Ethnohistoric and documentary evidence identify the Chambers site as a Lenape (Delaware) occupation dating to A.C.E. 1763-1776. There is no evidence to contradict this.

Determinations Made by the Carnegie Museum of Natural History

Officials of the Carnegie Museum of Natural History have determined that:

• Pursuant to 25 U.S.C. 3001(9), the human remains described in this notice represent the physical remains of 55 individuals of Native American ancestry.

• Pursuant to 25 U.S.C. 3001(3)(A), the 2,564 objects described in this notice are reasonably believed to have been placed with or near individual human remains at the time of death or later as part of the death rite or ceremony.

• Pursuant to 25 U.S.C. 3001(2), there is a relationship of shared group identity that can be reasonably traced between the Native American human remains and associated funerary objects to the Delaware Tribe of Indians.

Additional Requestors and Disposition

Lineal descendants or representatives of any Indian tribe or Native Hawaiian organization not identified in this notice that wish to request transfer of control of these human remains and associated funerary objects should submit a written request with information in support of the request to Deborah G. Harding, Carnegie Museum of Natural History, 5800 Baum Blvd., Pittsburgh, PA 15206, telephone (412) 665-2606, by December 31, 2014. After that date, if no additional requestors have come forward, transfer of control of the human remains and associated funerary objects to the Delaware Tribe of Indians may proceed.

The Carnegie Museum of Natural History is responsible for notifying the Delaware Tribe of Indians that this notice has been published.

Dated: October 30, 2014.
Melanie O'Brien,
Acting Manager, National NAGPRA Program.

[FR Doc. 2014-28279 Filed 11-28-14; 8:45 am]

BILLING CODE 4312-50-P